DEPARTMENT OF DEFENSE

Department of the Navy

Notice of Intent To Grant Exclusive Patent License; Broadley James Corp.

AGENCY: Department of the Navy, DoD.

ACTION: Notice.

SUMMARY: The Department of the Navy hereby gives notice of its intent to grant to Broadley James Corporation a revocable, nonassignable, exclusive license to practice in the United States and certain foreign countries, the Government-owned invention described in U.S. Patent No. 5,234,594 entitled “Nanochannel Filter”, in the field of pH and other potentiometric sensors using reference electrodes.

DATES: Anyone wishing to object to the grant of this license must file written objections along with supporting evidence, if any, not later than April 26, 2004.

ADDRESSES: Written objections are to be filed with the Naval Research Laboratory, Code 1004, 4555 Overlook Avenue, SW., Washington, DC 20375-5320.

FOR FURTHER INFORMATION CONTACT: Jane F. Kuhl, Technology Transfer Office, NRL Code 1004, 4555 Overlook Avenue, SW., Washington, DC 20375-5320, telephone (202) 767-7230. Due to U.S. Postal delays, please fax (202) 404-7920, E-mail: kuhl@nrl.navy.mil or use courier delivery to expedite response.

(Authority: 35 U.S.C. 207, 37 CFR part 404.)

Dated: April 2, 2004.
S.A. Hughes,
Lieutenant Commander, Judge Advocate General's Corps, U.S. Navy, Federal Register Liaison Officer.

[FR Doc. 04-8058 Filed 4-8-04; 8:45 am]

BILLING CODE 3810-FF-P